NUCLEAR REGULATORY COMMISSION

[Docket No. 52-033; NRC-2008-0566]

DTE Electric Company; Fermi 3

AGENCY: Nuclear Regulatory Commission.

ACTION: Combined license and record of decision; issuance.

SUMMARY: The U.S. Nuclear Regulatory Commission (NRC) is providing notice of the issuance of Combined License (COL), NPF-95 to DTE Electric Company (DTE, formerly Detroit Edison Company) and Record of Decision.

ADDRESSES: Please refer to Docket ID NRC-2008-0566 when contacting the NRC about the availability of information regarding this document. You may access publicly-available information related to this document using any of the following methods:

• NRC's Agencywide Documents Access and Management System (ADAMS): You may obtain publicly-available documents online in the ADAMS Public Documents collection at http://www.nrc.gov/reading-rm/adams.html. To begin the search, select “ADAMS Public Douments” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided at the end of this document.

• NRC's PDR: You may examine and purchase copies of public documents at the NRC's PDR, Room O1-F21, One White Flint North, 11555 Rockville Pike, Rockville, Maryland 20852.

FOR FURTHER INFORMATION CONTACT: Adrian Muñiz, Office of New Reactors, U.S. Nuclear Regulatory Commission, Washington, DC 20555-0001; telephone: 301-415-4093, email: Adrian.Muniz@nrc.gov regarding safety matters; or Mallecia Sutton, at 301-415-0673, email: Mallecia.Sutton@nrc.gov regarding environmental matters.

SUPPLEMENTARY INFORMATION:

I. Introduction

Under section 2.106 of Title 10 of the Code of Federal Regulations (10 CFR), the NRC is providing notice of the issuance of COL NPF-95 to DTE and, under 10 CFR 51.102(c), the Record of Decision (ROD). With respect to the application for the COL filed by DTE, the NRC finds that the applicable standards and requirements of the Atomic Energy Act of 1954, as amended, and the Commission's regulations have been met. The NRC finds that any required notifications to other agencies or bodies have been duly made and that there is reasonable assurance that the facility will be constructed and will operate in conformity with the license, as amended, the provisions of the Act, and the Commission's regulations. Furthermore, the NRC finds that the licensee is technically and financially qualified to engage in the activities authorized, and that issuance of the license will not be inimical to the common defense and security or to the health and safety of the public. Finally, the NRC finds that the findings required by subpart A of 10 CFR part 51 have been made.

Accordingly, the COL was issued on May 1, 2015, and is effective immediately.

II. Further Information

The NRC has prepared a Final Safety Evaluation Report (FSER) and Final Environmental Impact Statement (FEIS) that document the information reviewed and NRC's conclusion. The Commission has also issued its Memorandum and Order documenting its final decision on the uncontested hearing held on February 4, 2015, which serves as the Record of Decision ROD in this proceeding. The NRC also prepared a document summarizing the ROD to accompany its action on the COL application that incorporates by reference materials contained in the FEIS. In accordance with 10 CFR 2.390 of the NRC's “Rules of Practice,” details with respect to this action, including the FSER FEIS, Summary ROD, and accompanying documentation included in the combined license package, as well as the Commission's hearing decision and ROD, are available online in the ADAMS Public Documents collection at http://www.nrc.gov/reading-rm/adams.html. From this site, persons can access the NRC's ADAMS, which provides text and image files of NRC's public documents.

The ADAMS accession numbers for the documents related to this notice are:

ML14296A540 | “Final Safety Evaluation Report for Combined Licenses for Enrico Fermi Unit 3”.
ML12307A172, ML12307A176, ML12307A177, and ML12347A202 | NUREG-2105, “Final Environmental Impact Statement for the Combined License for Enrico Fermi Unit 3”.
ML14308A337 | DTE COL Application—Revision 8 of the application.
ML15120A040 | Commission's Memorandum and Order on the uncontested hearing (Record of Decision).
ML15120A221 | Summary of the Record of Decision.
ML15084A160 | Combined License No. NPF-95.

Dated at Rockville, Maryland, this 1st day of May 2014.
For the Nuclear Regulatory Commission.
Mark Delligatti,
Deputy Director, Division of New Reactor Licensing, Office of New Reactors.

[FR Doc. 2015-11038 Filed 5-6-15; 8:45 am]

BILLING CODE 7590-01-P